ENVIRONMENTAL PROTECTION AGENCY

[FRL-9920-27-OA]

Request for Nominations of Candidates to the EPA's Science Advisory Board (SAB) Agricultural Science Committee

AGENCY: Environmental Protection Agency (EPA).

ACTION: Notice.

SUMMARY: The U.S. Environmental Protection Agency (EPA) invites public nominations of scientific experts to be considered for appointment to the EPA's Science Advisory Board (SAB) Agricultural Science Committee to provide advice to the chartered SAB regarding matters referred to the SAB that will have a significant direct impact on farming and agriculture-related industries.

DATES: Nominations should be submitted in time to arrive no later than January 30, 2015.

FOR FURTHER INFORMATION CONTACT: Nominators unable to submit nominations electronically as described below may submit a paper copy to Ms. Stephanie Sanzone, Designated Federal Officer (DFO) for the committee, by email at sanzone.stephanie@epa.gov or by telephone at 202-564-2067.

Background: The chartered SAB (the Board) was established in 1978 by the Environmental Research, Development and Demonstration Authorization Act (42 U.S.C. 4365) to provide independent advice to the Administrator on general scientific and technical matters underlying the Agency' policies and actions. Members of the SAB and its subcommittees constitute a distinguished body of non-EPA scientists, engineers, economists, and social scientists that are nationally and internationally recognized experts in their respective fields. Members are appointed by the EPA Administrator, generally for a period of three years. The SAB conducts business in accordance with the Federal Advisory Committee Act (FACA) (5 U.S.C. App. 2) and related regulations. Generally, SAB meetings are announced in the Federal Register, conducted in public view, and provide opportunities for public input during deliberations. All the work of the SAB subcommittees is performed under the direction of the Board. The chartered Board provides strategic advice to the EPA Administrator on a variety of EPA science and research programs and reviews and approves all SAB subcommittee and panel reports. Additional information about the SAB Federal Advisory Committees may be found at http://www.epa.gov/sab.

Pursuant to section 12307 of the Agricultural Act of 2014 (Pub. L. 133-79), the EPA is establishing a new agriculture-related standing committee of the SAB. The SAB Agricultural Science Committee will provide advice to the chartered SAB on matters referred to the Board that EPA and the Board, in consultation with the Secretary of Agriculture, determine will have a significant direct impact on farming and agriculture-related industries. Initial appointments to the committee will be for a mix of 2 and 3 year terms to ensure rotation and staggered terms for future years.

Expertise Sought: The SAB Staff Office is seeking nominations of experts to serve on the SAB Agricultural Science Committee with demonstrated expertise in agriculture-related sciences, including: Agricultural economics, including valuation of ecosystem goods and services; agricultural chemistry; agricultural engineering; agronomy, including soil science; aquaculture science; biofuels engineering; biotechnology; crop and animal science; environmental chemistry; forestry; and hydrology. For further information, please contact Ms. Sanzone, DFO, as identified above.

Selection criteria include:

—Demonstrated scientific credentials and disciplinary expertise in relevant fields;

—Willingness to commit time to the committee and demonstrated ability to work constructively and effectively on committees;

—Background and experiences that would contribute to the diversity of perspectives on the committee, e.g., geographic, economic, social, cultural, educational backgrounds, and professional affiliations; and

—For the committee as a whole, consideration of the collective breadth and depth of scientific expertise; and a balance of scientific perspectives.

As the committee undertakes specific advisory activities, the SAB Staff Office will consider two additional criteria for each new activity: absence of financial conflicts of interest and absence of an appearance of a loss of impartiality.

How To Submit Nominations: Any interested person or organization may nominate qualified persons to be considered for appointment to this advisory committee. Individuals may self-nominate. Nominations should be submitted in electronic format (preferred) following the instructions for “Nominating Experts to the SAB Agricultural Science Committee” provided on the SAB Web site. Instructions can be accessed through the “Nomination of Experts” link on the blue navigational bar on the SAB Web site at http://www.epa.gov/sab. To be considered, all nominations should include the information requested. EPA values and welcomes diversity. In an effort to obtain nominations of diverse candidates, EPA encourages nominations of women and men of all racial and ethnic groups.

The following information should be provided on the nomination form: Contact information about the person making the nomination; contact information about the nominee; the disciplinary and specific areas of expertise of the nominee; the nominee's curriculum vita; and a biographical sketch of the nominee indicating current position, educational background; research activities; sources of any research funding over the last two years; and recent service on other national advisory committees or national professional organizations. Persons having questions about the nomination procedures, or who are unable to submit nominations through the SAB Web site, should contact the Designated Federal Officer for the committee, as identified above. Non-electronic submissions must follow the same format and contain the same information as the electronic form. The SAB Staff Office will acknowledge receipt of nominations.

Candidates invited to serve will be asked to submit the “Confidential Financial Disclosure Form for Special Government Employees Serving on Federal Advisory Committees at the U.S. Environmental Protection Agency” (EPA Form 3110-48). This confidential form allows the EPA to determine whether there is a statutory conflict between that person's public responsibilities as a Special Government Employee and private interests and activities, or the appearance of a loss of impartiality, as defined by Federal regulation. The form may be viewed and downloaded through the “Ethics Requirements for Advisors” link on the blue navigational bar on the SAB Web site at http://www.epa.gov/sab.

Dated: December 1, 2014.
Thomas H. Brennan,
Deputy Director, EPA Science Advisory Board Staff Office.

[FR Doc. 2014-28975 Filed 12-9-14; 8:45 am]

BILLING CODE 6560-50-P